DEPARTMENT OF ENERGY

Federal Energy Regulatory Commission

[Docket No. RP02-70-000]

Florida Gas Transmission Company; Notice of Filing of Annual Report

December 5, 2001.

Take notice that on November 30, 2001 Florida Gas Transmission Company (FGT) tendered for filing as part of its FERC Gas Tariff, Third Revised Volume No. 1, schedules detailing certain information related to its Cash-Out Mechanism, Fuel Resolution Mechanism and Balancing Tools charges for the accounting months October 2000 through September 2001. No tariff changes are proposed.

FGT states that section 19.1 of the General Terms and Conditions of its Tariff provides for an Annual Report containing an accounting of costs and revenues associated with the Cash-Out Mechanism, Fuel Resolution Mechanism and various Balancing Tools provided for in FGT's Tariff. The instant filing is made in compliance with those provisions.

FGT states that it has experienced a revenue deficiency of $7,140,225 during the current Settlement Period, which when combined with $86,905 net deficiency carried forward, results in a cumulative underrecovery of $7,227,130 as of September 30, 2001. FGT further states that the net deficiency carried forward of $86,905 includes interest calculated in compliance with the Commission's order issued November 20, 2001 in Docket No. RP01-511-000.

Any person desiring to be heard or to protest said filing should file a motion to intervene or a protest with the Federal Energy Regulatory Commission, 888 First Street, NE., Washington, DC 20426, in accordance with sections 385.214 or 385.211 of the Commission's rules and regulations. All such motions or protests must be filed on or before December 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30563 Filed 12-10-01; 8:45 am]

BILLING CODE 6717-01-P